DEPARTMENT OF VETERANS AFFAIRS

Commission on Care

ACTION: Notice of Meeting

In accordance with the Federal Advisory Committee Act, 5 U.S.C., App. 2, the Commission on Care gives notice that it will meet on Monday, October 19, 2015, and Tuesday, October 20, 2015, at the Washington Marriott at Metro Center, 775 12th St. NW., Washington, DC 20005. The meeting will convene at 8:30 a.m. both days and end at 5:30 p.m. on October 19, and end at 12:00 p.m. on October 20. The meeting is open to the public.

The purpose of the Commission, as described in section 202 of the Veterans Access, Choice, and Accountability Act of 2014 (VACAA), is to examine the access of Veterans to health care from the Department of Veterans Affairs (VA) and strategically examine how best to organize the Veterans Health Administration (VHA), locate health care resources, and deliver health care to Veterans during the next 20 years. In undertaking this assessment, the Commission will evaluate and assess the results of the Independent Assessment conducted by CMS Alliance to Modernize Healthcare (CAMH) in accordance with section 201 of VACAA.

On October 19, the Commission will hear from experts who will provide insights on work to be done by the Commission. In addition, presentations will be made by VHA on clinical health services. On October 20, the Commission will hear about access to VA health care and support services.

No time will be allocated at this meeting for receiving oral presentations from the public. However, the public may submit written statements for the Commission's review to Sharon Gilles, Designated Federal Officer, Commission on Care, 1575 I (Eye) Street NW., Suite 240, Washington, DC 20005, or email at sharon.gilles@va.gov. Any member of the public wanting to attend may contact Ms. Gilles.

Dated: September 29, 2015.
Sharon Gilles,
Designated Federal Officer, Commission on Care.

[FR Doc. 2015-25066 Filed 10-1-15; 8:45 am]

BILLING CODE 8320-01-P